DEPARTMENT OF HEALTH AND HUMAN SERVICES

National Institutes of Health

Center for Scientific Review; Amended Notice of Meeting

Notice is hereby given of a change in the meeting of the Center for Scientific Review Special Emphasis Panel, April 24, 2002, 12 p.m. to April 24, 2002, 1 p.m., NIH Rockledge 2, Bethesda, MD, 20892 which was published in the Federal Register on April 5, 2002, 67 FR 16414-16415.

The meeting has been changed to April 19, 2002, from 11 a.m. to 12 p.m. The location remains the same. The meeting is closed to the public.

Dated: April 9, 2002.
LaVerne Y. Stringfield,
Director, Office of Federal Advisory Committee Policy.

[FR Doc. 02-9444 Filed 4-17-02; 8:45 am]

BILLING CODE 4140-01-M